FEDERAL COMMUNICATIONS COMMISSION

47 CFR Part 64

[CG Docket No. 10-210; FCC 11-56]

Relay Services for Deaf-Blind Individuals

AGENCY: Federal Communications Commission.

ACTION: Final rule; correction.

SUMMARY: The Federal Communications Commission (FCC) is correcting a final rule that appeared in the Federal Register of May 9, 2011, 76 FR 26641. The document adopts rules to establish the National Deaf-Blind Equipment Distribution Program (NDBEDP) pilot program in accordance with the Twenty-First Century Communications and Video Accessibility Act (CVAA).

DATES: Effective June 8, 2011.

FOR FURTHER INFORMATION CONTACT: Rosaline Crawford, Consumer and Governmental Affairs Bureau, Disability Rights Office, at (202) 418-2075 or e-mail Rosaline.Crawford@fcc.gov.

SUPPLEMENTARY INFORMATION: In FR Doc. 2011-10228 published in the Federal Register on Monday, May 9, 2011, 76 FR 26641, the following correction is made:

§ 64.610 [Corrected]

1. On page 26648, in the second column, paragraph 9, the second sentence of § 64.610(c)(2)(ii) is corrected to read: “An applicant's functional abilities with respect to using telecommunications, Internet access, and advanced communications services in various environments shall be considered when determining whether the individual is deaf-blind under clauses (c)(2)(i)(B) and (C) of this section.”

Federal Communications Commission.
Marlene H. Dortch,
Secretary.

[FR Doc. 2011-12680 Filed 5-27-11; 8:45 am]

BILLING CODE 6712-01-P